ENVIRONMENTAL PROTECTION AGENCY

[FRL-7557-6]

Science Advisory Board Staff Office; Clean Air Scientific Advisory Committee; Notification of Public Advisory Committee Meeting (Teleconference)

AGENCY: Environmental Protection Agency (EPA).

ACTION: Notice.

SUMMARY: The Environmental Protection Agency (EPA or Agency), Science Advisory Board (SAB) Staff Office announces a publicly-accessible teleconference: for the Clean Air Scientific Advisory Committee (CASAC) to review, deliberate on, and approve the report of the CASAC National Ambient Air Monitoring Strategy (NAAMS) Subcommittee; and for the CASAC Particulate Matter (PM) Review Panel to discuss follow-on matters related to its review of the EPA Air Quality Criteria Document for Particulate Matter (Fourth External Review Draft).

DATES: The teleconference will take place on Friday, October 3, 2003, from 2 to 5 pm (Eastern Time). The CASAC will discuss the report of the CASAC NAAMS Subcommittee from 2 to 3 pm; and the CASAC PM Review Panel will discuss follow-on matters related to the draft PM Air Quality Criteria Document from 3 to 5 pm.

FOR FURTHER INFORMATION CONTACT: Members of the public who wish to obtain the teleconference call-in numbers and access codes should contact Ms. Delores Darden, EPA Science Advisory Board Staff, at telephone/voice mail: (202) 564-2282, or e-mail: darden.delores@epa.gov, or Ms. Sandra Friedman, EPA Science Advisory Board Staff, at telephone/voice mail: (202) 564-2526, or e-mail: friedman.sandra@epa.gov.

Any member of the public who wants further information concerning this teleconference, or who wishes to submit written or brief oral comments (five minutes or less), must contact Mr. Fred Butterfield, Designated Federal Officer (DFO), EPA Science Advisory Board (1400A), U.S. Environmental Protection Agency, 1200 Pennsylvania Avenue, NW., Washington, DC 20460; telephone/voice mail: (202) 564-4561; fax: (202) 501-0582; or e-mail: butterfield.fred@epa.gov. Requests to provide oral comments must be in writing (e-mail, fax or mail) and received by Mr. Butterfield no later than noon Eastern Time five business days prior to the teleconference in order to reserve time on the meeting agenda. Written comments (preferably via e-mail) should be sent to Mr. Butterfield by the same deadline so that these comments can be provided to the CASAC or the CASAC PM Review Panel, as applicable, prior to the teleconference. See additional instructions in the section below entitled, “Providing Oral or Written Comments at SAB Meetings.” General information concerning the CASAC or the EPA Science Advisory Board can be found on the EPA Web site at: http://www.epa.gov/sab.

SUPPLEMENTARY INFORMATION: Summary: The Clean Air Scientific Advisory Committee, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC, which is administratively located under the EPA Science Advisory Board Staff Office, is a Federal advisory committee chartered under the Federal Advisory Committee Act (FACA), as amended, 5 U.S.C., App. The CASAC and CASAC Particulate Matter Review Panel will comply with the provisions of FACA and all appropriate SAB Staff Office procedural policies.

Background: The CASAC NAAMS Subcommittee is charged with providing advice, information and recommendations to the Agency on the technical bases and design aspects of the National Ambient Air Monitoring Strategy. The NAAMS Subcommittee held a public meeting in Research Triangle Park, North Carolina, on July 8-9, 2003 (68 FR 34945, June 11, 2003) to review the NAAMS document. The Subcommittee will report to the Administrator of EPA through the CASAC.

The CASAC PM Review Panel is charged in part with providing advice, information and recommendations on the scientific and technical aspects of issues related to air quality criteria and NAAQS for particulate matter, under sections 108 and 109 of the Clean Air Act. The PM Review Panel reports directly to the Administrator of EPA. This teleconference is a follow-on to the Panel's review of the EPA Air Quality Criteria Document for Particulate Matter (Fourth External Review Draft), which review took place in a public meeting held in Research Triangle Park on August 25-26, 2003 (68 FR 47060, August 7, 2003), and specifically to discuss the restructuring of Chapter 9 (Integrative Synthesis) of that document.

Availability of Additional Meeting Materials: The draft agenda for the CASAC and CASAC PM Review Panel teleconference will be posted on the SAB Web site at: http://www.epa.gov/sab (under the “Agendas” subheading) in advance of the meeting. The draft report of the CASAC NAAMS Subcommittee, and any other materials that may be available, will also be posted on the SAB Web site during this time-frame.

Providing Oral or Written Comments at SAB Meetings: It is the policy of the EPA Science Advisory Board Staff Office to accept written public comments of any length, and to accommodate oral public comments whenever possible. The EPA Science Advisory Board Staff Office expects that public statements presented at its meetings will not be repetitive of previously-submitted oral or written statements. Oral Comments: In general, for teleconference meetings, opportunities for oral comment will usually be limited to no more than three minutes per speaker and no more than fifteen minutes total for all speakers. The deadline for getting on the public speaker list for this teleconference is given above. Speakers who attend the teleconference in person should bring at least 35 copies of their comments and presentation slides for distribution to the reviewers and public at the meeting. Written Comments: Although the SAB Staff Office will accept written comments until the date of the teleconference (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files in IBM-PC/Windows 95/98 format). Those providing written comments and who attend the teleconference in person are also asked to bring 35 copies of their comments for public distribution.

Meeting Access. Individuals requiring special accommodation to access this teleconference, or who wish to attend this teleconference in person, should contact Mr. Butterfield at the telephone or e-mail address provided above at least five business days prior to the meeting so that appropriate arrangements can be made.

Dated: September 8, 2003.
Vanessa T. Vu,
Director, EPA Science Advisory Board Staff Office.

[FR Doc. 03-23274 Filed 9-11-03; 8:45 am]

BILLING CODE 6560-50-P